DEPARTMENT OF THE INTERIOR

Bureau of Reclamation

[DOI-2019-0008; R0810000, 20XR0680A1, RY.1541TT20153PATN]

Privacy Act of 1974; System of Records

AGENCY: Bureau of Reclamation, Interior.

ACTION: Notice of a modified system of records.

SUMMARY: Pursuant to the provisions of the Privacy Act of 1974, as amended, the Department of the Interior proposes to modify the Bureau of Reclamation Privacy Act system of records titled, “INTERIOR/WBR-12, Inventions and Patents.” This system of records administers the Bureau of Reclamation internal program that manages and tracks applications for inventions and patents submitted by Federal employees, individuals, and organizations who have submitted a report of invention to Reclamation or employees who are seeking to file and secure patents. The Bureau of Reclamation is proposing to add new routine uses, modify existing routine uses to provide clarification, update authorities for this system, update categories of individuals and categories of records to reflect the expanded scope of the system, and to provide general and administrative updates to all sections in accordance with the Office of Management and Budget Circular A-108, “Federal Agency Responsibilities for Review, Reporting, and Publication under the Privacy Act.” This modified system will be included in the Department of the Interior's inventory of record systems.

DATES: This modified system will be effective upon publication. New and modified routine uses will be effective January 27, 2020. Submit comments on or before January 27, 2020.

ADDRESSES: You may send comments identified by docket number [DOI-2019-0008], by any of the following methods:

• Federal eRulemaking Portal: http://www.regulations.gov. Follow the instructions for sending comments.

• Email: DOI_Privacy@ios.doi.gov. Include docket number [DOI-2019-0008] in the subject line of the message.

• U.S. Mail or Hand-Delivery: Teri Barnett, Departmental Privacy Officer, U.S. Department of the Interior, 1849 C Street NW, Room 7112, Washington, DC 20240.

Instructions: All submissions received must include the agency name and docket number [DOI-2019-0008]. All comments received will be posted without change to http://www.regulations.gov, including any personal information provided.

Docket: For access to the docket to read background documents or comments received, go to http://www.regulations.gov.

FOR FURTHER INFORMATION CONTACT: Regina Magno, Associate Privacy Officer, Bureau of Reclamation, P.O. Box 25007, Denver, CO 80225, privacy@usbr.gov or (303) 445-3326.

SUPPLEMENTARY INFORMATION:

I. Background

The Department of the Interior (DOI), Bureau of Reclamation (Reclamation) maintains the “INTERIOR/WBR-12, Inventions and Patents” system of records. The purpose of this system is to administer an internal program to manage and track applications for inventions and patents submitted by Federal employees, individuals, and organizations (i.e., businesses, state and local governments, universities, non-governmental organizations), who have submitted a report of invention to Reclamation or employees who are seeking to file and secure patents. Inventions may be developed solely by Reclamation employees or jointly with other Federal and/or other entities. The primary use of this system is to determine an inventor's rights to an invention, whether to file and secure a patent application for the invention, and to distribute a share of royalties for licensed inventions.

Reclamation inventors may receive monetary awards for filing the patent application and issuing the patent. The U.S. Patent and Trademark Office issues a patent for 20 years and patent maintenance fees are paid at specific time periods to maintain the patent at the discretion of the Chief, Research and Development, Bureau of Reclamation. Reclamation inventors who have assigned their patent rights to DOI may receive a share of royalty payments from Reclamation.

Reclamation is publishing this revised notice to update authorities for this system, update categories of individuals and categories of records to reflect the expanded scope of the system, and provide general and administrative updates to all sections in accordance with the Office of Management and Budget (OMB) Circular A-108, “Federal Agency Responsibilities for Review, Reporting, and Publication under the Privacy Act.” Additionally, Reclamation is modifying existing routine uses to provide additional clarity and transparency. Routine use A was modified to further clarify disclosures to the Department of Justice or other Federal agencies when necessary in relation to litigation or judicial proceedings. Routine uses B, D, and E have been modified to provide additional clarification on external organizations and circumstances where disclosures are compatible with the purpose of the system or are proper and necessary to administer an internal program to manage and track applications for inventions and patents submitted by Federal employees, individuals, and organizations (i.e., businesses, state and local governments, universities, non-governmental organizations) who have submitted a report of invention to Reclamation and/or employees who are seeking to file and secure patents. Modified routine use J and proposed routine use K allow Reclamation to share information with appropriate Federal agencies or entities when reasonably necessary to respond to a breach of personally identifiable information and to prevent, minimize, or remedy the risk of harm to individuals or the Federal Government, or assist an agency in locating individuals affected by a breach in accordance with OMB Memorandum M-17-12, “Preparing for and Responding to a Breach of Personally Identifiable Information”.

Proposed new routine uses C, F, G, H, I, and L through P facilitate sharing of information with agencies and organizations to ensure the efficient management of applications for inventions and patents, promote the integrity of the records in the system, or carry out a statutory responsibility of Reclamation or the Federal Government. Proposed routine use C facilitates sharing of information with the Executive Office of the President to resolve issues concerning individual's records. Routine use F allows Reclamation to share information with agencies when relevant for hiring and retention, or issuance of security clearance, license, contract, grant or benefit. Routine use G allows Reclamation to share information with the National Archives and Records Administration (NARA) to conduct records management inspections. Routine use H allows Reclamation to share information with external entities, such as state, territorial and local governments, and tribal organizations, as needed in response to court orders or for discovery purposes related to litigation. Routine use I allows Reclamation to share information with an expert, consultant, grantee, or contractor (including employees of the contractor) of DOI that performs services requiring access to these records on DOI's behalf to carry out the purposes of the system. Routine use L allows Reclamation to share information with the OMB during the coordination and clearance process in connection with legislative affairs. Routine use M allows Reclamation to share information with the Department of the Treasury to recover debts owed to the United States. Routine use N allows Reclamation to share information with the news media and the public if there is a legitimate public interest in the disclosure of the information. Routine use O allows Reclamation to share information with the U.S. Patent and Trademark Office for filing and issuing patent applications and patents. Routine use P allows Reclamation to share information with the Department of the Treasury, Internal Revenue Service, and state and local tax authorities to report miscellaneous income for tax reporting purposes for which an employee is or was subject to tax regardless of whether tax is or was withheld in accordance with Treasury Fiscal Requirements, as required.

II. Privacy Act

The Privacy Act of 1974, as amended, embodies fair information practice principles in a statutory framework governing the means by which Federal agencies collect, maintain, use, and disseminate individuals' records. The Privacy Act applies to records about individuals that are maintained in a “system of records.” A “system of records” is a group of any records under the control of an agency from which information is retrieved by the name of an individual or by some identifying number, symbol, or other identifying particular assigned to the individual. The Privacy Act defines an individual as a United States citizen or an alien lawfully admitted for permanent residence. Individuals may request access to their own records that are maintained in a system of records in the possession or under the control of DOI by complying with DOI Privacy Act regulations at 43 CFR part 2, subpart K, and following the procedures outlined in the Records Access, Contesting Record, and Notification Procedures sections of this notice.

The Privacy Act requires each agency to publish in the Federal Register a description denoting the existence and character of each system of records that the agency maintains and the routine uses of each system. The revised Inventions and Patents system of records notice is published in its entirety below. In accordance with 5 U.S.C. 552a(r), DOI has provided a report of this system of records to the Office of Management and Budget and to Congress.

III. Public Participation

You should be aware that your entire comment including your personal identifying information, such as your address, phone number, email address, or any other personal identifying information in your comment, may be made publicly available at any time. While you may request to withhold your personal identifying information from public review, we cannot guarantee we will be able to do so.

SYSTEM NAME AND NUMBER:

INTERIOR/Reclamation-12, Inventions and Patents.

SECURITY CLASSIFICATION:

Unclassified.

SYSTEM LOCATION:

Records in this system are maintained at the Bureau of Reclamation, Denver Federal Center, 6th and Kipling, Denver, CO 80225-0007.

SYSTEM MANAGER(S):

Chief, Research and Development, Bureau of Reclamation, Denver Federal Center, P.O. Box 25007, Denver, CO 80225-0007.

AUTHORITY FOR MAINTENANCE OF THE SYSTEM:

The Stevenson-Wydler Innovation Act of 1980, 15 U.S.C. 3701, et seq., as amended; The Federal Technology Transfer Act of 1986, Public Law 99-502; Executive Order 12591, Facilitating Access to Science and Technology, as modified by Executive Order 12618, Uniform Treatment of Federally Funded Inventions; Executive Order 9397, Numbering System for Federal Accounts Relating to Individual Persons, as modified by Executive Order 13478, Amendments to Executive Order 9397 Relating to Federal Agency Use of Social Security Numbers; and 26 U.S.C., Internal Revenue Code.

PURPOSE(S) OF THE SYSTEM:

The primary purpose of the system is to manage and track applications for inventions and patents submitted by Federal employees, individuals, and organizations (i.e., private organizations, state and local governments, universities, and other organizations) who have submitted a report of invention to Reclamation or are seeking to file and secure patents. This system enables Reclamation to determine the inventor's rights to an invention, whether to file and secure a patent application for the invention, and to distribute a share of royalties to inventors for licensed inventions.

CATEGORIES OF INDIVIDUALS COVERED BY THE SYSTEM:

Individuals covered by the system include Federal employees, individual members of the public, and individuals acting on behalf of state and local government, private organizations, universities, or other organizations who have submitted reports of inventions to Reclamation for the purpose of filing and securing patents. This system contains records pertaining to state and local governments, private organizations, and other business entities that are not subject to the Privacy Act. However, records pertaining to individuals acting on behalf of an organization may reflect personal information that is subject to the Privacy Act.

CATEGORIES OF RECORDS IN THE SYSTEM:

This system contains records related to inventions such as descriptions and/or drawings of the invention in the patent application and information regarding the applicant that submitted a report of invention or is seeking to file a patent. Records contain information such as name, home or business address, personal or business phone number, personal or business email address, grade level for Federal employees, job title, project name, project title, patent application number, patent number, organization information, banking or financial information of the inventor to facilitate royalty payments, and any information related to the processing of patents and royalty payments such as amount of shares or disbursements. Tax Identification Numbers or Social Security numbers may be collected and maintained in order to process royalty payments to individuals or organizations and to submit Form 1099-MISC, Miscellaneous Income, to the Internal Revenue Service for tax reporting purposes. Records in this system may also include information on Reclamation officials who process or approve applications, or otherwise manage or oversee the invention and patent process.

RECORD SOURCE CATEGORIES:

Records in this system are obtained from Federal employees, individual members of the public, and individuals acting on behalf of state and local government, private organizations, universities, or other organizations that have submitted a report of inventions to Reclamation and/or are seeking to file and secure patents, and Reclamation officials who process or approve applications, or otherwise manage or oversee the invention and patent process.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed outside DOI as a routine use pursuant to 5 U.S.C. 552a(b)(3) as follows:

A. To the Department of Justice (DOJ), including Offices of the U.S. Attorneys, or other Federal agency conducting litigation or in proceedings before any court, adjudicative, or administrative body, when it is relevant or necessary to the litigation and one of the following is a party to the litigation or has an interest in such litigation:

(1) DOI or any component of DOI;

(2) Any other Federal agency appearing before the Office of Hearings and Appeals;

(3) Any DOI employee or former employee acting in his or her official capacity;

(4) Any DOI employee or former employee acting in his or her individual capacity when DOI or DOJ has agreed to represent that employee or pay for private representation of the employee; or

(5) The United States Government or any agency thereof, when DOJ determines that DOI is likely to be affected by the proceeding.

B. To a congressional office when requesting information on behalf of, and at the request of, the individual who is the subject of the record.

C. To the Executive Office of the President in response to an inquiry from that office made at the request of the subject of a record or a third party on that person's behalf, or for a purpose compatible with the reason for which the records are collected or maintained.

D. To any criminal, civil, or regulatory law enforcement authority (whether Federal, state, territorial, local, tribal or foreign) when a record, either alone or in conjunction with other information, indicates a violation or potential violation of law—criminal, civil, or regulatory in nature, and the disclosure is compatible with the purpose for which the records were compiled.

E. To an official of another Federal agency to provide information needed in the performance of official duties related to reconciling or reconstructing data files or to enable that agency to respond to an inquiry by the individual to whom the record pertains.

F. To Federal, state, territorial, local, tribal, or foreign agencies that have requested information relevant or necessary to the hiring, firing or retention of an employee or contractor, or the issuance of a security clearance, license, contract, grant or other benefit, when the disclosure is compatible with the purpose for which the records were compiled.

G. To representatives of the National Archives and Records Administration (NARA) to conduct records management inspections under the authority of 44 U.S.C. 2904 and 2906.

H. To state, territorial and local governments and tribal organizations to provide information needed in response to court order and/or discovery purposes related to litigation, when the disclosure is compatible with the purpose for which the records were compiled.

I. To an expert, consultant, grantee, or contractor (including employees of the contractor) of DOI that performs services requiring access to these records on DOI's behalf to carry out the purposes of the system.

J. To appropriate agencies, entities, and persons when:

(1) DOI suspects or has confirmed that there has been a breach of the system of records;

(2) DOI has determined that as a result of the suspected or confirmed breach there is a risk of harm to individuals, DOI (including its information systems, programs, and operations), the Federal Government, or national security; and

(3) the disclosure made to such agencies, entities, and persons is reasonably necessary to assist in connection with DOI's efforts to respond to the suspected or confirmed breach or to prevent, minimize, or remedy such harm.

K. To another Federal agency or Federal entity, when DOI determines that information from this system of records is reasonably necessary to assist the recipient agency or entity in:

(1) Responding to a suspected or confirmed breach; or

(2) preventing, minimizing, or remedying the risk of harm to individuals, the recipient agency or entity (including its information systems, programs, and operations), the Federal Government, or national security, resulting from a suspected or confirmed breach.

L. To the Office of Management and Budget (OMB) during the coordination and clearance process in connection with legislative affairs as mandated by OMB Circular A-19.

M. To the Department of the Treasury to recover debts owed to the United States.

N. To the news media and the public, with the approval of the Public Affairs Officer in consultation with counsel and the Senior Agency Official for Privacy, where there exists a legitimate public interest in the disclosure of the information, except to the extent it is determined that release of the specific information in the context of a particular case would constitute an unwarranted invasion of personal privacy.

O. To the U.S. Patent and Trademark Office to submit patent applications and facilitate the filing, issuance and maintenance of patent applications and patents.

P. To the Department of the Treasury, Internal Revenue Service, and state and local tax authorities to report miscellaneous income for tax reporting purposes as required under 26 U.S.C. 3402 and 26 CFR 601, for which an employee is or was subject to tax regardless of whether tax is or was withheld in accordance with Treasury Fiscal Requirements, as required.

DISCLOSURE TO CONSUMER REPORTING AGENCIES:

Disclosure pursuant to 5 U.S.C. 552a(b)(12). Disclosures may be made from this system to consumer reporting agencies as defined in the Fair Credit Reporting Act (15 U.S.C. 1681a(f)) or the Federal Claims Act of 1966 (31 U.S.C. 3701(a)(3)).

POLICIES AND PRACTICES FOR STORAGE OF RECORDS:

Paper records are contained in file folders stored in locked file cabinets at secured Reclamation facilities. Electronic records are contained in removable drives, computers, email, and electronic database(s).

POLICIES AND PRACTICES FOR RETRIEVAL OF RECORDS:

Records are retrieved by name, project name, title, patent application number, or patent number.

POLICIES AND PRACTICES FOR RETENTION AND DISPOSAL OF RECORDS:

Records in this system are currently maintained in accordance with the Bureau of Reclamation Records Retention Schedule LAW-6.00—Inventions, Patents, and Copyrights (N1-115-94-9), which has been approved by NARA. This record schedule covers case files pertaining to inventions and patents, including correspondence and data supporting invention reports on patent applications. The disposition for these records is temporary and the records are cutoff at the end of each year. Paper, film, and electronic records are transferred to the Federal Record Center 10 years after cutoff or when volume warrants. The Federal Record Center will destroy these records 20 years after cutoff.

A new Departmental Records Schedule (DRS) has been submitted to NARA and is pending approval. Once NARA approves the DRS, the records related to this system of records will be maintained in accordance with DRS: 4.4.13 Legal—Litigation and Adjudication—Judicial 20 years. These files are temporary. Files are cutoff on final decision (when decision is made and all opportunities for appeal are settled/expired). Files are destroyed 20 years after cutoff.

Paper records are disposed of by shredding or pulping, and records contained on electronic media are degaussed or erased in accordance with the applicable records retention schedule, 384 Department Manual 1 and NARA guidelines.

ADMINISTRATIVE, TECHNICAL, AND PHYSICAL SAFEGUARDS:

The records contained in this system are safeguarded in accordance with 43 CFR 2.226 and other applicable security rules and policies. Records are accessible only by authorized DOI employees, and other Federal Government agencies and contractors who have contractual agreements with Reclamation to conduct activities related to inventions and patents. During normal hours of operation, paper records are secured in locked file cabinets under the control of authorized personnel. Computers and servers on which electronic records are stored are located in secured DOI and/or contractor facilities with physical, technical, and administrative levels of security such as access codes, security codes, and security guards, to prevent unauthorized access to the DOI network and information assets. Access to DOI networks and data requires a valid username and password, and is limited to DOI personnel and/or contractors who have a need to know of the information for the performance of their official duties. Access to contractor's networks and data requires restricted access limited to authorized personnel.

Computerized records systems follow the National Institute of Standards and Technology privacy and security standards as developed to comply with the Privacy Act of 1974 as amended, 5 U.S.C. 552a; the Paperwork Reduction Act of 1995, Public Law 104-13; the Federal Information Security Modernization Act of 2014, Public Law 113-283, as codified at 44 U.S.C. 3551, et seq.; and the Federal Information Processing Standard 199, Standards for Security Categorization of Federal Information and Information Systems. Security controls include user identification, passwords, database permissions, encryption, firewalls, audit logs, and network system security monitoring, and software controls. System administrators and authorized personnel are trained and required to follow established internal security protocols and must complete all security, privacy, and records management training and sign the DOI Rules of Behavior.

RECORD ACCESS PROCEDURES:

An individual requesting records on himself or herself should send a signed, written inquiry to the System Manager identified in this notice. The request must include the specific bureau or office that maintains the record to facilitate the location of the applicable records. The request envelope and letter should both be clearly marked “PRIVACY ACT REQUEST FOR ACCESS.” A request for access must meet the requirements of 43 CFR 2.238.

CONTESTING RECORD PROCEDURES:

An individual requesting corrections or the removal of material from his or her records should send a signed, written request to the System Manager as identified in this notice. The request must include the specific bureau or office that maintains the record to facilitate the location of the applicable records. A request for corrections or removal must meet the requirements of 43 CFR 2.246.

NOTIFICATION PROCEDURES:

An individual requesting notification of the existence of records on himself or herself should send a signed, written inquiry to the System Manager as identified in this notice. The request must include the specific bureau or office that maintains the record to facilitate the location of the applicable records. The request envelope and letter should both be clearly marked “PRIVACY ACT INQUIRY.” A request for notification must meet the requirements of 43 CFR 2.235.

EXEMPTIONS PROMULGATED FOR THE SYSTEM:

None. Pursuant to 5 U.S.C. 552a(d)(5), the Privacy Act does not entitle an individual to access information compiled in reasonable anticipation of a civil action or proceeding related to patent litigation cases.

HISTORY:

64 FR 40894 (July 28, 1999); modification published 73 FR 20949 (April 17, 2008).

Teri Barnett,
Departmental Privacy Officer, Department of the Interior.

[FR Doc. 2019-27944 Filed 12-26-19; 8:45 am]

BILLING CODE 4332-90-P